DEPARTMENT OF ENERGY

Federal Energy Regulatory Commission

[Docket No. GP94-2-012]

Columbia Gas Transmission Corporation; Notice of Refund Report

June 12, 2003.

Take notice that on June 10, 2003, Columbia Gas Transmission Corporation (Columbia) tendered for filing its Refund Report made to comply with the April 17, 1995 Settlement (Settlement) in Docket No. GP94-02, et al., as approved by the Commission on June 15, 1995 (Columbia Gas Transmission Corp., (71 FERC § 61,337 (1995)).

Columbia states that on January 20, 2003, it made refunds, as billing credits and with checks, in the amount of $307,253.93.

Columbia further states that the refunds represent deferred tax refunds received from Trailblazer Pipeline Company and Overthrust Pipeline Company. Columbia asserts that these refunds were made pursuant to Article VIII, Section E of the Settlement using the allocation percentages shown on Appendix G, Schedule 5 of the Settlement. Columbia explains that the refunds include interest at the Commission rate, in accordance with the Code of Federal Regulations, Subpart F, Section 154.501 (d).

Columbia states that copies of its filing have been mailed to all affected customers and state commissions.

Any person desiring to protest said filing should file a protest with the Federal Energy Regulatory Commission, 888 First Street, NE., Washington, DC 20426, in accordance with § 385.211 of the Commission's Rules and Regulations. All such protests must be filed on or before the protest date as shown below. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: June 23, 2003.

Magalie R. Salas,
Secretary.

[FR Doc. 03-15424 Filed 6-18-03; 8:45 am]

BILLING CODE 6717-01-P